DEPARTMENT OF COMMERCE

National Oceanic and Atmospheric Administration

[RTID 0648-XC426]

Marine Mammals; File No. 26599

AGENCY: National Marine Fisheries Service (NMFS), National Oceanic and Atmospheric Administration (NOAA), Commerce.

ACTION: Notice; receipt of application.

SUMMARY: Notice is hereby given that Florian Graner, Ph.D., Sea-Life Productions, 4021 Beach Drive, Freeland, Washington 98249, has applied in due form for a permit to conduct commercial and educational photography of transient killer whales (Orcinus orca) and other marine mammals.

DATES: Written, telefaxed, or email comments must be received on or before November 28, 2022.

ADDRESSES: These documents are available upon written request via email to NMFS.Pr1Comments@noaa.gov.

Written comments on this application should be submitted via email to NMFS.Pr1Comments@noaa.gov. Please include File No. 26599 in the subject line of the email comment.

Those individuals requesting a public hearing should submit a written request via email to NMFS.Pr1Comments@noaa.gov. The request should set forth the specific reasons why a hearing on this application would be appropriate.

FOR FURTHER INFORMATION CONTACT: Courtney Smith, Ph.D. or Shasta McClenahan, Ph.D., (301) 427-8401.

SUPPLEMENTARY INFORMATION: The subject permit is requested under the authority of the Marine Mammal Protection Act of 1972, as amended (MMPA; 16 U.S.C. 1361 et seq.), and the regulations governing the taking and importing of marine mammals (50 CFR part 216).

The applicant proposes to take, by harassment, up to 480 transient killer whales and 100 gray whales (Eschrichtius robustus); 60 Dall's (Phocoenoides dalli) and 60 harbor (Phocoena phocoena) porpoises; 50 northern elephant (Mirounga angustirostris) and 800 harbor seals (Phoca vitulina); 200 California (Zalophus californianus) and 400 Eastern Steller (Eumetopias jubatus) sea lions, annually. Filming and observations may occur from vessels, underwater (snorkelers, divers, and towed or pole cameras), unmanned aircraft systems, and land-based platforms within Washington inland waters. The permit is requested for 3 years.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: October 21, 2022.
Julia M. Harrison,
Chief, Permits and Conservation Division, Office of Protected Resources, National Marine Fisheries Service.

[FR Doc. 2022-23360 Filed 10-26-22; 8:45 am]

BILLING CODE 3510-22-P